OFFICE OF PERSONNEL MANAGEMENT

5 CFR Part 532

RIN 3206-AL81

Prevailing Rate Systems; Redefinition of the Lake Charles-Alexandria and New Orleans, LA, Appropriated Fund Federal Wage System Wage Areas

AGENCY: U.S. Office of Personnel Management.

ACTION: Proposed rule with request for comments.

SUMMARY: The U.S. Office of Personnel Management is issuing a proposed rule that would redefine the geographic boundaries of the Lake Charles-Alexandria and New Orleans, LA, appropriated fund Federal Wage System (FWS) wage areas. The proposed rule would redefine Iberia and St. Martin Parishes, LA, from the New Orleans wage area to the Lake Charles-Alexandria wage area. These changes are based on recent consensus recommendations of the Federal Prevailing Rate Advisory Committee to best match the counties proposed for redefinition to a nearby FWS survey area. No other changes are proposed for the Lake Charles-Alexandria and New Orleans FWS wage areas.

DATES: We must receive comments on or before April 8, 2009.

ADDRESSES: Send or deliver comments to Charles D. Grimes III, Deputy Associate Director for Performance and Pay Systems, Strategic Human Resources Policy Division, U.S. Office of Personnel Management, Room 7H31, 1900 E Street, NW., Washington, DC 20415-8200; email pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The U.S. Office of Personnel Management (OPM) is issuing a proposed rule to redefine the Lake Charles-Alexandria and New Orleans, LA, appropriated fund Federal Wage System (FWS) wage areas. This proposed rule would redefine Iberia and St. Martin Parishes, LA, from the New Orleans wage area to the Lake Charles-Alexandria wage area.

OPM considers the following regulatory criteria under 5 CFR 532.211 when defining FWS wage area boundaries:

(i) Distance, transportation facilities, and geographic features;

(ii) Commuting patterns; and

(iii) Similarities in overall population, employment, and the kinds and sizes of private industrial establishments.

Lafayette and St. Martin Parishes, LA, comprise the Lafayette, LA Metropolitan Statistical Area (MSA). The Lafayette MSA is split between the Lake Charles-Alexandria, LA, wage area and the New Orleans, LA, wage area. Lafayette Parish is part of the area of application of the Lake Charles-Alexandria wage area and St. Martin Parish is part of the area of application of the New Orleans wage area. St. Martin Parish is comprised of two noncontiguous parts.

Based on an analysis of the regulatory criteria for Lafayette Parish, the location of the main population center in the Lafayette MSA, we recommend that the entire Lafayette MSA be defined to the Lake Charles-Alexandria wage area. The distance criterion for Lafayette Parish favors the Lake Charles-Alexandria wage area more than the New Orleans wage area. All other criteria are inconclusive. We believe our regulatory analysis findings indicate that Lafayette Parish is appropriately defined to the Lake Charles-Alexandria wage area. OPM regulations at 5 CFR 532.211 permit splitting MSAs only in very unusual circumstances (e.g., organizational relationships among closely located Federal activities). There appear to be no unusual circumstances that would permit splitting the Lafayette MSA. To comply with OPM regulations not to split MSAs, St. Martin Parish would be redefined to the Lake Charles-Alexandria wage area.

Because Iberia Parish splits St. Martin Parish into two noncontiguous parts, we recommend that Iberia Parish be redefined to the Lake Charles-Alexandria wage area. The distance criterion for Iberia Parish favors the Lake Charles-Alexandria wage area more than the New Orleans wage area. All other criteria are inconclusive. Although a standard review of regulatory criteria shows that most factors are inconclusive, distance does favor Lake Charles-Alexandria. Based on this analysis, we recommend that Iberia Parish be redefined to the Lake Charles-Alexandria wage area.

The Federal Prevailing Rate Advisory Committee (FPRAC), the national labor-management committee responsible for advising OPM on matters concerning the pay of FWS employees, recommended these changes by consensus. These changes would be effective on the first day of the first applicable pay period beginning on or after 30 days following publication of the final regulations. FPRAC recommended no other changes in the geographic definitions of the Lake Charles-Alexandria and New Orleans wage areas.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Kathie Ann Whipple,
Acting Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of Louisiana is amended by revising the listings for Lake Charles-Alexandria and New Orleans, to read as follows:

Appendix C to Subpart B of Part 532—Appropriated Fund Wage and Survey Areas

* * * * *

Louisiana
Lake Charles-Alexandria
Survey Area
Louisiana:
Allen
Beauregard
Calcasieu
Grant
Rapides
Sabine
Vernon
Area of Application. Survey area plus:
Louisiana:
Acadia
Avoyelles
Caldwell
Cameron
Catahoula
Concordia
Evangeline
Franklin
Iberia
Jefferson Davis
Lafayette
La Salle
Madison
Natchitoches
St. Landry
St. Martin
Tensas
Vermilion
Winn
New Orleans
Survey Area
Louisiana:
Jefferson
Orleans
Plaquemines
St. Bernard
St. Charles
St. John the Baptist
St. Tammany
Area of Application. Survey area plus:
Louisiana:
Ascension
Assumption
East Baton Rouge
East Feliciana
Iberville
Lafourche
Livingston
Pointe Coupee
St. Helena
St. James
St. Mary
Tangipahoa
Terrebonne
Washington
West Baton Rouge
West Feliciana
* * * * *

[FR Doc. E9-4923 Filed 3-6-09; 8:45 am]

BILLING CODE 6325-39-P